DEPARTMENT OF STATE

[Public Notice 4673]

Certification Related to Serbia and Montenegro Under Section 1511 of the National Defense Authorization Act, 1994 (Public Law 103-160)

Pursuant to the authority vested in me as Deputy Secretary of State, including under Section 1511 of the National Defense Authorization Act, 1994 (Public Law 103-160), the President's Delegation of Responsibilities Related to the Federal Republic of Yugoslavia, dated March 22, 2001, and the Secretary of State's Delegation of Authority Number 245, dated April 23, 2001, I hereby certify that the waiver of the application of the prohibitions in Section 1511(a)(6) of Public Law 103-160 is necessary to achieve a negotiated settlement of the conflict in Bosnia-Herzegovina that is acceptable to the parties, and I hereby waive the application of this prohibition with respect to the suspension of the application of duty-free treatment accorded to articles of Serbia and Montenegro under the Generalized System of Preferences.

This Determination shall be published in the Federal Register, and copies shall be provided to the appropriate committees of the Congress.

Dated: February 20, 2004.
Richard L. Armitage,
Deputy Secretary of State, Department of State.

[FR Doc. 04-6820 Filed 3-25-04; 8:45 am]

BILLING CODE 4710-23-P